SECURITIES AND EXCHANGE COMMISSION

Sunshine Act Meeting

Notice is hereby given, pursuant to the provisions of the Government in the Sunshine Act, Public Law 94-409, that the Securities and Exchange Commission will hold an Open Meeting on December 15, 2010 at 10 a.m., in the Auditorium, Room L-002.

The subject matters of the Open Meeting will be:

Item 1: The Commission will consider whether to propose rule 3Cg-1 under the Exchange Act governing the exception to mandatory clearing of security-based swaps under Section 763(a) of the Dodd-Frank Wall Street Reform and Consumer Protection Act, which is available to counterparties meeting certain conditions. The Commission will also consider related matters, including the exemption for banks, savings associations, farm credit system institutions and credit unions contemplated by Section 763(a).

Item 2: The Commission will consider whether to propose rule and form amendments to establish a process for the submission for review of security-based swaps for mandatory clearing under Section 763(a) of the Dodd-Frank Wall Street Reform and Consumer Protection Act and for the filing of changes to rules, procedures or operations in accordance with Section 806(e) of Dodd-Frank Wall Street Reform and Consumer Protection Act by clearing agencies that are designated financial market utilities. The Commission also will consider whether to propose a new rule to establish a procedure by which the Commission may stay the mandatory clearing requirement. In addition, the Commission will consider whether to propose a new rule concerning the submission to a clearing agency of a security-based swap for clearing.

Item 3: The Commission will consider whether to propose rules regarding disclosure and reporting obligations with respect to the use of conflict minerals to implement the requirements of Section 1502 of the Dodd-Frank Wall Street Reform and Consumer Protection Act.

Item 4: The Commission will consider whether to propose rules regarding disclosure and reporting obligations with respect to mine safety matters to implement the requirements of Section 1503 of the Dodd-Frank Wall Street Reform and Consumer Protection Act.

Item 5: The Commission will consider whether to propose rules regarding disclosure and reporting obligations with respect to payments to governments made by resource extraction issuers to implement the requirements of Section 1504 of the Dodd-Frank Wall Street Reform and Consumer Protection Act.

At times, changes in Commission priorities require alterations in the scheduling of meeting items.

For further information and to ascertain what, if any, matters have been added, deleted or postponed, please contact:

The Office of the Secretary at (202) 551-5400.

Dated: December 8, 2010.
Elizabeth M. Murphy,
Secretary.

[FR Doc. 2010-31291 Filed 12-9-10; 11:15 am]

BILLING CODE 8011-01-P